DEPARTMENT OF COMMERCE

Bureau of Industry and Security

15 CFR Part 744

[Docket No. 210312-0056]

RIN 0694-AI38

Expansion of Certain End-Use and End-User Controls and Controls on Specific Activities of U.S. Persons; Correction

AGENCY: Bureau of Industry and Security, Commerce.

ACTION: Interim final rule; correction.

SUMMARY: The Bureau of Industry and Security (BIS), Department of Commerce, is correcting an interim final rule, “Expansion of Certain End-Use and End-User Controls and Controls on Specific Activities of U.S. Persons,” that appeared in the Federal Register of January 15, 2021 (hereinafter referred to as the January 15 rule) by revising an incorrect instruction that would have resulted in the inadvertent deletion of two subparagraphs of the Export Administration Regulations' (EAR) restrictions on certain rocket systems and unmanned aerial vehicles.

DATES: Effective date: March 16, 2021.

FOR FURTHER INFORMATION CONTACT: Philip Johnson, Senior Advisor, Export Enforcement, Bureau of Industry and Security, Phone: (202) 482-3685, Philip.Johnson@bis.doc.gov.

SUPPLEMENTARY INFORMATION:

Background

On January 15, 2021, BIS published an interim final rule expanding certain end-use and end-user controls and controls on specific activities of U.S. persons (86 FR 4865) (hereinafter the January 15 rule). Due to an instruction error, which directed the revision of paragraph (a)(3) of § 744.3 of the EAR, rather than only the introductory text of that paragraph, upon its effective date, the January 15 rule would have resulted in the inadvertent deletion of § 744.3(a)(3)(i) and (ii) of the EAR, which describe the license requirements that apply when an exporter, reexporter, or transferor cannot determine the range capabilities of a rocket system or unmanned aerial vehicle (UAV) in certain countries of missile technology concern (Country Group D:4) (see Supplement No. 1 to part 740 of the EAR), or whether such rocket system or UAV will be used in connection with the delivery of certain weapons of mass destruction. This was a technical error and BIS did not intend to remove the existing restrictions on exports, reexports, and transfers (in-country) applicable to certain rocket systems and UAVs in D:4 countries currently set forth in § 744.3(a)(3)(i) and (ii) of the EAR. To remediate this error, BIS is correcting the instruction in the January 15 rule to revise only the introductory “text of § 744.3(a)(3), rather than the entire paragraph.

Correction

Accordingly, in FR Doc. 2021-00977, appearing on page 4865 in the Federal Register of Friday, January 15, 2021, the follow correction is made:

§ 744.3 [Correction]

1. On page 4871, first column, instruction 9 is corrected to read “Section 744.3 is amended by revising paragraphs (a)(1) and (2), the introductory text to paragraph (a)(3), and paragraphs (d)(2)(ii) and (v) to read as follows:”

Matthew S. Borman,
Deputy Assistant Secretary for Export Administration.

[FR Doc. 2021-05623 Filed 3-15-21; 4:15 pm]

BILLING CODE 3510-33-P